DEPARTMENT OF ENERGY

Federal Energy Regulatory Commission

[Docket No. CP03-38-002]

Northern Natural Gas Company; Notice of Compliance Filing

March 18, 2003.

Take notice that on March 13, 2003, Northern Natural Gas Company (Northern) tendered for filing to become part of its FERC Gas Tariff, Fifth Revised Volume No. 1, the following tariff sheet proposed to be effective on February 26, 2003:

Fifth Revised Volume No. 1.

9 Revised Sheet No. 4.

Original Volume No. 2.

33 Revised Sheet No. 1A.

First Revised Sheet No. 1407.

Northern states that the above referenced sheets represent cancellation of Rate Schedule X-82 from Northern's Original Volume No. 2 FERC Gas Tariff, and the associated deletions from the Table of Contents in Northern's Volume Nos. 1 and 2 tariffs.

Northern states that copies of the filing were served upon the company's customers and interested State Commissions.

Any person desiring to protest said filing should file a protest with the Federal Energy Regulatory Commission, 888 First Street, NE., Washington, DC 20426, in accordance with section 385.211 of the Commission's Rules and Regulations. All such protests must be filed on or before March 25, 2003. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 03-7036 Filed 3-24-03; 8:45 am]

BILLING CODE 6717-01-P